DEPARTMENT OF TRANSPORTATION

Federal Aviation Administration

14 CFR Part 39

[Docket No. 2000-NM-65-AD; Amendment 39-13594; AD 2004-09-05]

RIN 2120-AA64

Airworthiness Directives; Cessna Model 500, 501, 550, and 551 Airplanes

AGENCY: Federal Aviation Administration, DOT.

ACTION: Final rule.

SUMMARY: This amendment adopts a new airworthiness directive (AD); applicable to certain Cessna Model 500, 501, 550, and 551 airplanes; that requires a one-time inspection of the brake stator disks to determine to what change level they have been modified (if any), and related investigative and corrective actions if necessary. This AD also requires that the existing markings on the piston housing of certain brake assemblies be eliminated. The actions specified by this AD are intended to prevent wheel lockups that may be caused by cracked or broken brake stator disks becoming jammed in the brake assembly and preventing rotation. Such jamming of the brake assembly may result in reduced directional control or braking performance during landing. This action is intended to address the identified unsafe condition.

DATES: Effective June 2, 2004.

The incorporation by reference of certain publications listed in the regulations is approved by the Director of the Federal Register as of June 2, 2004.

ADDRESSES: The service information referenced in this AD may be obtained from Cessna Aircraft Co., P.O. Box 7706, Wichita, Kansas 67277. This information may be examined at the Federal Aviation Administration (FAA), Transport Airplane Directorate, Rules Docket, 1601 Lind Avenue, SW., Renton, Washington; at the FAA, Wichita Aircraft Certification Office, 1801 Airport Road, Room 100, Mid-Continent Airport, Wichita, Kansas; or at the Office of the Federal Register, 800 North Capitol Street, NW., suite 700, Washington, DC.

FOR FURTHER INFORMATION CONTACT: David Hirt, Aerospace Engineer, Systems and Propulsion Branch, ACE-116W, Wichita Aircraft Certification Office, 1801 Airport Road, Room 100, Mid-Continent Airport, Wichita, Kansas 67209; telephone (316) 946-4156; fax (316) 946-4407.

SUPPLEMENTARY INFORMATION: A proposal to amend part 39 of the Federal Aviation Regulations (14 CFR part 39) to include an airworthiness directive (AD) that is applicable to certain Cessna Model 500, 501, 550, and 551 airplanes was published as a supplemental notice of proposed rulemaking (NPRM) in the Federal Register on November 12, 2003 (68 FR 64002). That action proposed to require a one-time inspection of the brake stator disks to determine to what change level they have been modified (if any), and follow-on actions if necessary. That action also proposed to require that the existing markings on the piston housing of certain brake assemblies be eliminated.

Comments

Interested persons have been afforded an opportunity to participate in the making of this amendment. Due consideration has been given to the comments received.

Request To Withdraw NPRM

One commenter, the manufacturer of the subject brake assemblies, requests that the FAA withdraw the NPRM because the proposed AD is not timely and would place an unnecessary cost burden on operators. The commenter states that the average service life of the subject brake assemblies is 592 landings. With a utilization rate of 20 landings per month, the service life is approximately 30 months. Based on this information, and considering the date of issuance of the Goodrich service bulletins and the distribution of brake stator disks with change-level “B,” the commenter estimates that the subject brake stator disks should have been retired from service by July 2002. The commenter states that the proposed AD will have a negative economic effect on subject operators by subjecting them to an inspection for a component change letter range that should have been removed from service more than 17 months ago.

We do not concur. The information supplied by the commenter does not address the fact that this unsafe condition may still be present on airplanes that are operated at a utilization rate that is lower than average, or defective brakes in spares stocks that may be installed on airplanes in the future. The commenter also does not address the possibility that certain operators may have chosen not to comply with the actions in the Goodrich service bulletins referenced in this AD. We find that it is necessary to proceed with this AD to ensure that all subject stator disks are inspected in a timely manner. No change to the AD is necessary in this regard.

Explanation of Additional Changes to Final Rule

Paragraphs (d) and (e) of the supplemental NPRM state, “If repetitive inspections are required by paragraph (c) of this AD, [replacement of the brake assembly with a new or serviceable brake assembly] terminates those inspections.” We find that this statement may potentially cause confusion related to the inspection requirements specified in paragraph (f) of this AD. It was not our intent for the terminating action statement included in paragraphs (d) and (e) of this AD to terminate inspections that may be required by paragraph (f) of this AD. For clarification, we have revised paragraphs (d) and (e) of this final rule to state that, if repetitive inspections are required by paragraph (c) of this AD, repetitive inspections are terminated after all brake assemblies on the airplane contain only stator disks stamped with “CHG AI” or “CHG B” or a higher change letter. Related to this change, we have also revised paragraph (f) of this AD to clarify that the actions in paragraph (c) of this AD, which contains follow-on actions to paragraph (b) of this AD, must be accomplished when applicable.

Also, we have revised the Summary section of this final rule to change the term “follow-on actions” to “related investigative and corrective actions.” We find that this wording better describes the actions that are required for any stator disk not stamped with “CHG AI” or “CHG B” or a higher change letter.

Conclusion

After careful review of the available data, including the comment noted above, the FAA has determined that air safety and the public interest require the adoption of the rule with the changes previously described. The FAA has determined that these changes will neither increase the economic burden on any operator nor increase the scope of the AD.

Cost Impact

There are approximately 370 airplanes of the affected design in the worldwide fleet. We estimate that 259 airplanes of U.S. registry will be affected by this AD. It will take up to 1 work hour per airplane to accomplish the required inspection if the inspection were done at the time of a tire change and up to 4 work hours per airplane if the inspection were done at a different time, at an average labor rate of $65 per work hour. Based on these figures, the cost impact of this AD on U.S. operators is estimated to be $16,835, or $65 per airplane, for inspections of the brake assembly done at the time of a tire change; or up to $67,340, or $260 per airplane, for inspections done at a different time.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-05 Cessna Airplane Company: Amendment 39-13594. Docket 2000-NM-65-AD.

Applicability: Model 500 and 501 airplanes, serial numbers 0001 through 0689 inclusive, and Model 550 and 551 airplanes, serial numbers 0002 through 0733 inclusive; certificated in any category; equipped with BFGoodrich brake assembly part number (P/N) 2-1528-6 or 2-1530-4.

Compliance: Required as indicated, unless accomplished previously.

To prevent jamming of the wheel/tire assembly, which could result in a loss of directional control or braking performance upon landing, accomplish the following:

Inspection of Stator Disks for Change Letter

(a) Within 50 landings or 90 days after the effective date of this AD, whichever is first, inspect the stator disks on the brake assembly to determine if “CHG AI” or “CHG B” or a higher change letter is impression-stamped on each disk, in accordance with Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable. If both disks are stamped with “CHG AI” or “CHG B” or a higher change letter, no further action is required by this paragraph. A review of airplane maintenance records is acceptable in lieu of an inspection of the stator disks if the change letter of the stator disks can be positively determined from that review.

Inspection for Cracked or Broken Stator Disks

(b) For any stator disk not stamped with “CHG AI” or “CHG B” or a higher change letter: At the applicable compliance time specified in paragraph (b)(1) or (b)(2) of this AD, perform a detailed inspection for cracked or broken stator disks; in accordance with Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable.

(1) For airplanes that use thrust reversers: Inspect prior to the accumulation of 376 total landings on the brake assembly, or within 50 landings after the effective date of this AD, whichever is later.

(2) For airplanes that do not use thrust reversers: Inspect prior to the accumulation of 200 total landings on the brake assembly, or within 25 landings after the effective date of this AD, whichever is later.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Follow-On Actions (No Cracked or Broken Stator Disk)

(c) If no cracked or broken stator disk is found, before further flight, reassemble the brake assembly and, if the piston housing is impression-stamped with the letters “SB,” obliterate the existing markings on the piston housing by stamping “XX” over the letters “SB.” If paragraph E.(3)(a) or E.(3)(b), as applicable, of Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable; specifies repetitive inspections, repeat the inspection required by paragraph (b) of this AD at intervals not to exceed those specified in the service bulletin, until paragraph (e) of this AD is accomplished.

Corrective Action (Cracked or Broken Stator Disk)

(d) If any cracked or broken stator disk is found, prior to further flight, replace the brake assembly with a new or serviceable brake assembly; in accordance with Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable. If repetitive inspections are required by paragraph (c) of this AD, replacement of all brake assemblies on the airplane with new or serviceable brake assemblies that contain only stator disks stamped with “CHG AI” or “CHG B” or a higher change letter terminates those inspections.

Replacement of Brake Assembly

(e) When the brake assembly has accumulated 700 total landings since its installation or within 50 landings on the airplane after the effective date of this AD, whichever is later, replace the brake assembly with a new or serviceable brake assembly; in accordance with Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable. If repetitive inspections are required by paragraph (c) of this AD, replacement of all brake assemblies on the airplane with new or serviceable brake assemblies that contain only stator disks stamped with “CHG AI” or “CHG B” or a higher change letter terminates those inspections.

Parts Installation

(f) As of the effective date of this AD, no person may install a BFGoodrich brake assembly on any airplane unless it has been inspected as specified in paragraph (f)(1) or (f)(2) of this AD, and found to be free of cracked or broken stator disks.

(1) For BFGoodrich brake assembly P/N 2-1528-6: Brake assembly must be inspected in accordance with paragraphs (a), (b), and (c) of this AD, as applicable, in accordance with the service information specified in those paragraphs or BFGoodrich Service Bulletin 2-1528-32-3, dated March 23, 2000.

(2) For BFGoodrich brake assembly P/N 2-1530-4: Brake assembly must be inspected in accordance with paragraphs (a), (b), and (c) of this AD, as applicable, in accordance with the service information specified in those paragraphs or BFGoodrich Service Bulletin 2-1530-32-3, dated March 23, 2000.

Alternative Methods of Compliance

(g) In accordance with 14 CFR 39.19, the Manager, Wichita Aircraft Certification Office (ACO), FAA, is authorized to approve alternative methods of compliance for this AD.

Incorporation by Reference

(h) Unless otherwise specified in this AD, the actions shall be done in accordance with the applicable service bulletin listed in Table 1 of this AD.

Table 1.—Service Bulletins Incorporated by Reference
Service bulletin | Revision | Date
BFGoodrich Service Bulletin 2-1528-32-3 | Original | March 23, 2000.
BFGoodrich Service Bulletin 2-1530-32-3 | Original | March 23, 2000.
Goodrich Service Bulletin 2-1528-32-2 | 5 | February 19, 2003.
Goodrich Service Bulletin 2-1530-32-2 | 5 | February 19, 2003.

Goodrich Service Bulletin 2-1528-32-2, Revision 5, contains the following effective pages:

Page number | Revision level show on page | Date shown on page
1 | 5 | February 19, 2003.
2, 6 | 4 | February 7, 2003.
3 | 3 | November 5, 2001.
4, 5 | 2 | August 3, 2001.

Goodrich Service Bulletin 2-1530-32-2, Revision 5, contains the following effective pages:

Page number | Revision level shown on page | Date shown on page
1 | 5 | February 19, 2003.
2, 6 | 4 | February 7, 2003.
3 | 3 | November 30, 2001.
4, 5 | 2 | August 3, 2001.

This incorporation by reference was approved by the Director of the Federal Register in accordance with 5 U.S.C. 552(a) and 1 CFR part 51. Copies may be obtained from Cessna Aircraft Co., P.O. Box 7706, Wichita, Kansas 67277. Copies may be inspected at the FAA, Transport Airplane Directorate, 1601 Lind Avenue, SW., Renton, Washington; at the FAA, Wichita Aircraft Certification Office, 1801 Airport Road, Room 100, Mid-Continent Airport, Wichita, Kansas; or at the Office of the Federal Register, 800 North Capitol Street, NW., suite 700, Washington, DC.

Effective Date

(i) This amendment becomes effective on June 2, 2004.

Issued in Renton, Washington, on April 16, 2004.
Michael J. Kaszycki,
Acting Manager, Transport Airplane Directorate, Aircraft Certification Service.

[FR Doc. 04-9380 Filed 4-27-04; 8:45 am]

BILLING CODE 4910-13-P